DEPARTMENT OF HOMELAND SECURITY

Federal Emergency Management Agency

[Docket ID FEMA-2013-0002; Internal Agency Docket No. FEMA-B-1346]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with FEMA regulations. The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below.

Additionally, the current effective FIRM and FIS report for each community are accessible online through the FEMA Map Service Center at www.msc.fema.gov for comparison.

State and county | Location and case No. | Chief executive officer of community | Community map repository | Online location of letter of map revision | Effective date of modification | Community No.
California: Orange | City of Anaheim (13-09-0961P) | The Honorable Tom Tait, Mayor, City of Anaheim, 200 South Anaheim Boulevard, Anaheim, CA 92805 | City Hall, 200 South Anaheim Boulevard, Anaheim, CA 92805 | http://www.r9map.org/Docs/13-09-0961P-060213.pdf | November 1, 2013 | 060213
Connecticut:
Litchfield | Town of New Milford (13-01-1227P) | The Honorable Pat Murphy, Mayor, Town of New Milford, 10 Main Street, New Milford, CT 06776 | Town Hall, 10 Main Street, New Milford, CT 06776 | http://www.starr-team.com/starr/LOMR/Pages/RegionI.aspx | September 11, 2013 | 090049
Fairfield | Town of Stratford (12-01-2581P) | The Honorable John A. Harkins, Mayor, Town of Stratford, 2725 Main Street, Stratford, CT 06615 | Town Hall, 2725 Main Street, Stratford, CT 06615 | http://www.starr-team.com/starr/LOMR/Pages/RegionI.aspx | August 30, 2013 | 090016
Idaho:
Custer | City of Stanley (13-10-0553P) | The Honorable Herbert Mumford, Mayor, City of Stanley, Post Office Box 53, Stanley, ID 83278 | Town Hall, Post Office Box 53, Stanley, ID 83278 | http://www.starr-team.com/starr/LOMR/Pages/RegionX.aspx | August 23, 2013 | 160054
Custer | Unincorporated Areas of Custer County, (13-10-0553P) | The Honorable Wayne Butts, Chairman, Custer County Commissioners, 801 East Main Street, Challis, ID 83226 | Custer County, Courthouse, 801 East Main Street, Challis, ID 83226 | http://www.starr-team.com/starr/LOMR/Pages/RegionX.aspx | August 23, 2013 | 160211
Illinois:
Will | Village of Romeoville, (12-05-3283P) | The Honorable John Noak, Mayor, Village of Romeoville, 1050 West Romeo Road, Romeoville, IL 60446 | Village Hall, 1050 West Romeo Road, Romeoville, IL 60446 | http://www.starr-team.com/starr/LOMR/Pages/RegionV.aspx | September 27, 2013 | 170711
Cook | Village of Schaumburg (13-05-1146P) | The Honorable Al Larson, President, Village of Schaumburg, 101 Schaumburg Court, Schaumburg, IL 60193 | Robert O. Atcher, Municipal Building, Department of Engineering, 101 Schaumburg Court, Schaumburg, IL 60193 | http://www.starr-team.com/starr/LOMR/Pages/RegionV.aspx | October 14, 2013 | 170158
Peoria | City of Peoria (12-05-6386P) | The Honorable Jim Ardis, Mayor, City of Peoria, 419 Fulton Street, Room 207, Peoria, IL 61602 | Public Works Department, 3505 North Dries Lane, Peoria, IL 61604 | http://www.starr-team.com/starr/LOMR/Pages/RegionV.aspx | October 22, 2013 | 170536
Cook | City of Palos Heights (13-05-2883P) | The Honorable Robert Straz, Mayor, City of Palos Heights, 7607 West College Drive, Palos Heights, IL 60463 | City Hall, 7607 West College Drive, Palos Heights, IL 60463 | http://www.starr-team.com/starr/LOMR/Pages/RegionV.aspx | September 6, 2013 | 170142
Peoria | City of Peoria (13-05-1142P) | The Honorable Jim Ardis, Mayor, City of Peoria, 419 Fulton Street, Room 207, Peoria, IL 61602 | Public Works Department, 3505 North Dries Lane, Peoria, IL 61604 | http://www.starr-team.com/starr/LOMR/Pages/RegionV.aspx | September 11, 2013 | 170536
Peoria | City of Peoria (12-05-6068P) | The Honorable Jim Ardis, Mayor, City of Peoria, 419 Fulton Street, Room 207, Peoria, IL 61602 | Public Works Department, 3505 North Dries Lane, Peoria, IL 61604 | http://www.starr-team.com/starr/LOMR/Pages/RegionV.aspx | September 11, 2013 | 170536
Cook | Village of Matteson (13-05-3224P) | The Honorable Andre B. Ashmore, President, Village of Matteson, 4900 Village Commons, Matteson, IL 60443 | Village Hall, 4900 Village Commons, Matteson, IL 60443 | http://www.starr-team.com/starr/LOMR/Pages/RegionV.aspx | September 6, 2013 | 170123
Cook | Unincorporated Areas of Cook County (13-05-3224P) | The Honorable Toni Preckwinkle, President, Cook County Board of Commisioners, 118 North Clark Street, Room 537, Chicago, IL 60602 | Cook County Building and Zoning Department, 69 West Washington, Suite 2830, Chicago, IL 60602 | http://www.starr-team.com/starr/LOMR/Pages/RegionV.aspx | September 6, 2013 | 170054
Cook | Village of Olympia Fields (13-05-3224P) | The Honorable Debbie Meyers-Martin, President, Village of Olympia Fields, 20701 Governors Highway, Olympia Fields, IL 60461 | Village Hall, 20040 Governors Highway, Olympia Fields, IL 60461 | http://www.starr-team.com/starr/LOMR/Pages/RegionV.aspx | September 6, 2013 | 170139
Indiana: Hamilton | City of Westfield (12-05-9297P) | The Honorable Andy Cook, Mayor, City of Westfield, 130 Penn Street, Westfield, IN 46014 | City Hall, 130 Penn Street, Westfield, IN 46014 | http://www.starr-team.com/starr/LOMR/Pages/RegionV.aspx | August 23, 2013 | 180083
Kansas:
Johnson | City of Overland Park (13-07-0377P) | The Honorable Carl Gerlach, Mayor, City of Overland Park, 8500 Santa Fe Drive, Overland Park, KS 66212 | City Hall, 8500 Santa Fe Drive, Overland Park, KS 66212 | http://www.starr-team.com/starr/LOMR/Pages/RegionVII.aspx | August 23, 2013 | 200174
Johnson | City of Overland Park (12-07-3263P) | The Honorable Carl Gerlach, Mayor, City of Overland Park, 8500 Santa Fe Drive, Overland Park, KS 66212 | City Hall, 8500 Santa Fe Drive, Overland Park, KS 66212 | http://www.starr-team.com/starr/LOMR/Pages/RegionVII.aspx | August 30, 2013 | 200174
Massachusetts:
Worcester | Town of Northborough (13-01-0608P) | The Honorable Leslie Ruton, Chair, Board of Selectmen, Town of Northborough, 63 Main Street, Northborough, MA 01532 | Town Hall, 63 Main Street, Northborough, MA 01532 | http://www.starr-team.com/starr/LOMR/Pages/RegionI.aspx | October 4, 2013 | 250321
Norfolk | Town of Braintree (13-01-1797P) | The Honorable Joseph C. Sullivan, Mayor, Town of Braintree, 1 John F. Kennedy Memorial Drive, Braintree, MA 02184 | Town Hall, 1 John F. Kennedy Memorial Drive, Braintree, MA 02184 | http://www.starr-team.com/starr/LOMR/Pages/RegionI.aspx | November 15, 2013 | 250233
Maine: York | City of Biddeford (13-01-0424P) | The Honorable Alan Casavant, Mayor, City of Biddeford, 205 Main Street, Biddeford, ME 04005 | City Hall, 205 Main Street, Biddeford, ME 04005 | http://www.starr-team.com/starr/LOMR/Pages/RegionI.aspx | September 17, 2013 | 230145
Michigan:
Barry | Township of Yankee Springs (13-05-1644P) | The Honorable Mark Englerth, Supervisor, Township of Yankee Springs, 284 North Briggs Road, Middleville, MI 49333 | Yankee Springs Township Hall, 284 North Briggs Road, Middleville, MI 49333 | http://www.starr-team.com/starr/LOMR/Pages/RegionV.aspx | September 16, 2013 | 260883
Washtenaw | City of Ann Arbor (13-05-4220P) | The Honorable John Hieftje, Mayor, City of Ann Arbor, 100 North 5th Avenue, Ann Arbor, MI 48104 | City Hall, 301 East Huron Street, 3rd Floor, Ann Arbor, MI 48107 | http://www.starr-team.com/starr/LOMR/Pages/RegionV.aspx | October 25, 2013 | 260213
Minnesota:
Stearns | Unincorporated Areas of Stearns County (13-05-1353P) | The Honorable Jeff Mergen, Chair, Stearns County Commissioners, 21808 Fellows Road, Richmond, MN 56368 | Steams County, Administration Center, 705 Courthouse Square, St. Cloud, MN 56303 | http://www.starr-team.com/starr/LOMR/Pages/RegionV.aspx | October 4, 2013 | 270546
Clay | Unincorporated Areas of Clay County (13-05-4543P) | The Honorable Grant Weyland, Chair, Clay County Board of Commissioners, 807 North 11th Street, Moorhead, MN 56560 | Clay County Courthouse, Planning and Zoning Department, 807 North 11th Street, Moorhead, MN 56560 | http://www.starr-team.com/starr/LOMR/Pages/RegionV.aspx | November 12, 2013 | 275235
Missouri:
Franklin | City of Washington (13-07-1025P) | The Honorable Sandy Lucy, Mayor, City of Washington, 405 Jefferson Street, Washington, MO 63090 | City Hall, 405 Jefferson Street, Washington, MO 63090 | http://www.starr-team.com/starr/LOMR/Pages/RegionVII.aspx | September 12, 2013 | 290138
Franklin | City of Washington (12-07-3298P) | The Honorable Sandy Lucy, Mayor, City of Washington, 405 Jefferson Street, Washington, MO 63090 | City Hall, 405 Jefferson Street, Washington, MO 63090 | http://www.starr-team.com/starr/LOMR/Pages/RegionVII.aspx | August 29, 2013 | 290138
Franklin | City of Washington (12-07-3320P) | The Honorable Sandy Lucy, Mayor, City of Washington, 405 Jefferson Street, Washington, MO 63090 | City Hall, 405 Jefferson Street, Washington, MO 63090 | http://www.starr-team.com/starr/LOMR/Pages/RegionVII.aspx | August 26, 2013 | 290138
Nebraska: Madison | City of Norfolk (12-07-3110P) | The Honorable Sue Fuchtman, Mayor, City of Norfolk, 309 North 5th Street, Norfolk, NE 68701 | Planning and Zoning Department, 701 Koenigstein Avenue, Norfolk, NE 68701 | http://www.starr-team.com/starr/LOMR/Pages/RegionV.aspx | August 29, 2013 | 310147
Pennsylvania: Lebanon | Township of Jackson (13-03-0866P) | The Honorable Dean O. Moyer, Vice Chairman, Jackson Township Board of Supervisors, 217 West Jackson Avenue, Myerstown, PA 17067 | Jackson Township Municipal Building, 60 North Ramona Road, Myerstown, PA 17067 | https://www.rampp-team.com/lomrs.htm | November 14, 2013 | 421805
Ohio:
Hamilton | City of Cincinnati (13-05-0281P) | The Honorable Mark Mallory, Mayor, City of Cincinnati, 801 Plum Street, Suite 150, Cincinnati, OH 45202 | City Hall, 801 Plum Street, Cincinnati, OH 45202 | http://www.starr-team.com/starr/LOMR/Pages/RegionV.aspx | September 20, 2013 | 390210
Hamilton | Unincorporated Areas of Hamilton County (13-05-0281P) | The Honorable Greg Hartmann, President, Hamilton County Board of Commissioners, 138 East Court Street, Room 603, Cincinnati, OH 45202 | Hamilton County Administration Building, Department of Public Works, 138 East Court Street, Room 800, Cincinnati, OH 45202 | http://www.starr-team.com/starr/LOMR/Pages/RegionV.aspx | September 20, 2013 | 390204
Cuyahoga | City of Highland Heights (13-05-0770P) | The Honorable Scott Coleman, Mayor, City of Highland Heights, 5827 Highland Road, Highland Heights, OH 44143 | City Hall, 5827 Highland Road, Highland Heights, OH 44143 | http://www.starr-team.com/starr/LOMR/Pages/RegionV.aspx | October 4, 2013 | 390110
Franklin | City of Westerville (13-05-3808P) | The Honorable Kathy Cocuzzi, Mayor, City of Westerville, 21 South Street, Westerville, OH 43081 | Planning and Zoning Department, 64 East Walnut Street, Westerville, OH 43081 | http://www.starr-team.com/starr/LOMR/pages/RegionV.aspx | October 25, 2013 | 390179
Summit | City of Hudson (12-05-9936P) | The Honorable William A. Currin, Mayor, City of Hudson, 115 Executive Parkway, Suite 400, Hudson, OH 44236 | City Hall, 115 Executive Parkway, Suite 400, Hudson, OH 44236 | http://www.starr-team.com/starr/LOMR/pages/RegionV.aspx | October 31, 2013 | 390660
Summit | Village of Boston Heights (12-05-9936P) | The Honorable William Goncy, Mayor, Village of Boston Heights, 45 East Boston Mills Road, Hudson, OH, 44236 | Village Hall, 45 East Boston Mills Road, Hudson, OH 44236 | http://www.starr-team.com/starr/LOMR/pages/RegionV.aspx | October 31, 2013 | 390749
Summit | City of Hudson (12-05-9938P) | The Honorable William A. Currin, Mayor, City of Hudson, 115 Executive Parkway, Suite 400, Hudson, OH 44236 | City Hall, 115 Executive Parkway Suite 400, Hudson, OH 44236 | http://www.starr-team.com/starr/LOMR/pages/RegionV.aspx | November 4, 2013 | 390660
Oregon:
Jackson | Unincorporated Areas of Jackson County (13-10-0532P) | The Honorable Don Skundrick, Chair, Jackson County Board of Commissioners, 10 South Oakdale Avenue, Room 214, Medford, OR 97501 | Jackson County Courthouse, Roads, Parks and Planning, 10 South Oakdale Avenue, Medford, OR 97501 | http://www.starr-team.com/starr/LOMR/Pages/RegionX.aspx | October 30, 2013 | 415589
Umatilla | City of Milton-Freewater (12-10-1210P) | The Honorable Lewis Key, Mayor, City of Milton-Freewater, 722 South Main Street, Milton-Freewater, OR 97862 | City Hall, Planning Department, 722 South Main Street, Milton-Freewater, OR 97862 | http://www.starr-team.com/starr/LOMR/Pages/RegionX.aspx | September 20, 2013 | 410210
Umatilla | Unincorporated Areas of Umatilla County (12-10-1210P) | The Honorable Larry Givens, Chairman, Umatilla County Board of Commissioners, 216 Southeast 4th Street, Pendleton, OR 97801 | Umatilla County Courthouse, Planning Department, 216 Southeast 4th Street, Pendleton, OR 97801 | http://www.starr-team.com/starr/LOMR/Pages/RegionX.aspx | September 20, 2013 | 410204
Marion | City of Salem (13-10-0791P) | The Honorable Anna M. Peterson, Mayor, City of Salem, 555 Liberty Street Southeast, Room 220, Salem, OR 97301 | City Hall, Public Works Department, 555 Liberty Street Southeast, Room 325, Salem, OR 97301 | http://www.starr-team.com/starr/LOMR/Pages/RegionX.aspx | November 15, 2013 | 410167
Rhode Island:
Providence | City of Providence (12-01-1131P) | The Honorable Angel Taveras, Mayor, City of Providence, 25 Dorrance Street, Providence, RI 02903 | City Hall, 25 Dorrance Street, Providence, RI 02903 | http://www.starr-team.com/starr/LOMR/Pages/RegionI.aspx | September 27, 2013 | 445406
Providence | Town of Johnston (12-01-1131P) | The Honorable Joseph M. Polisena, Mayor, Town of Johnston, 1385 Hartford Avenue, Johnston, RI 02919 | Town Hall, Department of Building Operations, 1385 Hartford Avenue, Johnston, RI 02919 | http://www.starr-team.com/starr/LOMR/Pages/RegionI.aspx | September 27, 2013 | 440018
Providence | City of Cranston (12-01-1131P) | The Honorable Allan W. Fung, 869 Park Avenue, Cranston, RI 02910 | City Hall, 869 Park Avenue, Cranston, RI 02910 | http://www.starr-team.com/starr/LOMR/Pages/RegionI.aspx | September 27, 2013 | 445396
Wisconsin:
Brown | Unincorporated Areas of Brown County (13-05-1356P) | The Honorable Patrick Moynihan, Jr., Chair, Brown County Board of Commissioners, 305 East Walnut Street, Green Bay, WI 54305 | Brown County Courthouse Zoning Office, 305 East Walnut Street, Green Bay, WI 54305 | http://www.starr-team.com/starr/LOMR/Pages/RegionV.aspx | October 7, 2013 | 550020
Ozaukee | Village of Thiensville (12-05-9757P) | The Honorable Van Mobley, President, Village of Thiensville, 250 Elm Street, Thiensville, WI 53092 | Village Hall, 250 Elm Street, Thiensville, WI 53092 | http://www.starr-team.com/starr/LOMR/Pages/RegionV.aspx | October 18, 2013 | 550318
Outagamie | City of Appleton (12-05-6032P) | The Honorable Timothy Hanna, Mayor, City of Appleton, 100 North Appleton Street, Appleton, WI 54911 | City Hall, 100 North Appleton Street, Appleton, WI 54911 | http://www.starr-team.com/starr/LOMR/Pages/RegionV.aspx | August 23, 2013 | 555542
Outagamie | Unincorporated Areas of Outagamie County (12-05-6032P) | The Honorable Thomas M. Nelson, County Executive, Outagamie County, 410 South Walnut Street, Appleton, WI 54911 | Outagamie County Building, 410 South Walnut Street, Appleton, WI 54911 | http://www.starr-team.com/starr/LOMR/Pages/RegionV.aspx | August 23, 2013 | 550302

(Catalog of Federal Domestic Assistance No. 97.022, “Flood Insurance.”)

Dated: August 12, 2013.
Roy E. Wright,
Deputy Associate Administrator for Mitigation, Department of Homeland Security, Federal Emergency Management Agency.

[FR Doc. 2013-20791 Filed 8-26-13; 8:45 am]

BILLING CODE 9110-12-P